NATIONAL SCIENCE FOUNDATION

OMB Submission and Review

AGENCY: National Science Foundation.

ACTION: Notice.

SUMMARY: The National Science Foundation (NSF) has submitted the following information collection requirement to OMB for review and clearance under the Paperwork Reduction Act of 1995, Pub. L. 104-13. This is the second notice for public comment; the first was published in the Federal Register at 66 FR 48280, and no comments were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

FOR FURTHER INFORMATION CONTACT: Suzanne Plimpton at (703) 292-7556 or send e-mail to tpierce@nsf.gov. Individuals who use a telecommunications device for the deaf (TDD) may call the Federal Information Relay Service (FIRS) at 1-800-877-8339 between 8 a.m. and 8 p.m., Eastern time, Monday through Friday.

SUPPLEMENTARY INFORMATION:

Title of Collection: Outcomes and Impacts of The NSF Minority Postdoctoral Research Fellowships (MPRF) Program.

OMB Number: 3145-NEW.

Expiration Date of Approval: Not applicable.

Type of Request: Notice of Intent to Seek Approval to Establish an Information Collection.

Abstract: Outcomes and Impacts of The NSF Minority Postdoctoral Research Fellowships (MPRF) Program.

Proposed Project: The National Science Foundation (NSF), through its Minority Postdoctoral Research Fellowships (MPRF) Program within the Directorates of Biosciences and Social and Behavioral Sciences, manages a program, established in 1990 that is designed to prepare minority scientists for positions of scientific leadership in academia, government, and industry. To achieve this, funding is provided through the program to enable new PhDs in BIO and SBE fields from underrepresented minority groups to have an opportunity to start their career by conducting fully funded independent research for several years. Approximately 12 fellowships are funded each year.

The purpose of the proposed study is to examine the results of the Program in the form of the awardees' career outcomes.

Use of the Information: The information will be used by NSF to understand the extent to which this program assists awardees in beginning their research careers.

Estimate of Burden: Public reporting burden for this collection of information is estimated to average 30 minutes per response.

Respondents: Individuals.

Estimated Number of Responses per Form: 157.

Estimated Total Annual Burden on Respondents: 78.5 hours—157 respondents at ½ hour per response.

Frequency of Responses: One time.

Dated: March 6, 2002.
Suzanne H. Plimpton,
Reports Clearance Officer, National Science Foundation.

[FR Doc. 02-5871 Filed 3-11-02; 8:45 am]

BILLING CODE 7555-01-M